SURFACE TRANSPORTATION BOARD

[Docket No. FD 35996]

San Jacinto Transportation Company, Inc.—Operation Exemption—SJRE-Railroad Series

San Jacinto Transportation Company, Inc. (SJTC), a noncarrier, has filed a verified notice of exemption under 49 CFR 1150.31 to operate approximately 6.0 miles of rail line owned by SJRE-Railroad Series (SJRE), pursuant to an operating agreement with SJRE,¹ in Harris County, Tex. (the Line). The Line is located within the San Jacinto River and Rail Park and will connect with Union Pacific Railroad Company (UP) and BNSF Railway Company (BNSF) near mileposts 344-346 on the Lafayette Subdivision.

¹ SJRE is an entity within San Jacinto Real Estate, a series of LLCs' formed under the laws of Texas.

The transaction may be consummated on or after April 9, 2016, the effective date of the exemption (30 days after the exemption was filed).

SJTC certifies that, as a result of this transaction, its projected revenues will not result in the creation of a Class II or Class I rail carrier and will not exceed $5 million.

SJTC states that the operating agreement does not involve a provision or agreement which may limit future interchange with a third party connecting carrier. SJTC further states that, once the exemption becomes effective, it anticipates that UP and BNSF will enter into an interchange or switching agreement for SJTC to serve customers on the Line.

If the verified notice contains false or misleading information, the exemption is void ab initio. Petitions to revoke the exemption under 49 U.S.C. 10502(d) may be filed at any time. The filing of a petition to revoke will not automatically stay the effectiveness of the exemption. Petitions to stay must be filed no later than April 1, 2016 (at least 7 days before the exemption becomes effective).

An original and 10 copies of all pleadings, referring to Docket No. FD 35996, must be filed with the Surface Transportation Board, 395 E Street SW., Washington, DC 20423-0001. In addition, a copy must be served on John K. Fiorilla, Capehart & Scatchard, P.A., 8000 Midlantic Drive, Suite 300S, Mount Laurel, NJ 08054.

Board decisions and notices are available on our Web site at WWW.STB.DOT.GOV.

Decided: March 21, 2016.
By the Board, Joseph H. Dettmar, Acting Director, Office of Proceedings.
Tia Delano,
Clearance Clerk.

[FR Doc. 2016-06788 Filed 3-24-16; 8:45 am]

BILLING CODE 4915-01-P